DEPARTMENT OF THE INTERIOR

Fish and Wildlife Service

[FWS-R1-ES-2012-N198; FXES11130100000C2-123-FF01E00000]

Endangered and Threatened Wildlife and Plants; Recovery Plan for Rogue and Illinois Valley Vernal Pool and Wet Meadow Ecosystems

AGENCY: Fish and Wildlife Service, Interior.

ACTION: Notice of document availability.

SUMMARY: We, the U.S. Fish and Wildlife Service, announce the availability of the approved Recovery Plan for Rogue and Illinois Valley Vernal Pool and Wet Meadow Ecosystems. The recovery plan addresses two endangered plant species that are endemic to southern Oregon, and also includes some recommendations for other species in these ecosystems. The plan includes recovery objectives and criteria, and prescribes specific recovery actions necessary to achieve downlisting and delisting of the species from the Federal List of Endangered and Threatened Wildlife and Plants.

ADDRESSES: An electronic copy of the recovery plan is available at http://www.fws.gov/endangered/species/recovery-plans.html and http://www.fws.gov/pacific/ecoservices/endangered/recovery/plans.html. Copies of the recovery plan are also available by request from the U.S. Fish and Wildlife Service, Roseburg Field Office, 2900 NW. Stewart Parkway, Roseburg, Oregon 97470 (phone: 541-957-3474). Printed copies of the recovery plan will be available for distribution within 4 to 6 weeks of publication of this notice.

FOR FURTHER INFORMATION CONTACT: Sam Friedman, Botanist, at the above Roseburg address.

SUPPLEMENTARY INFORMATION:

Background

Recovery of endangered or threatened animals and plants is the primary goal of the Endangered Species Act (Act) of 1973, as amended (16 U.S.C. 1531 et seq.). Recovery means improvement of the status of a federally listed species to the point at which listing it is no longer required under the criteria set forth in section 4(a)(1) of the Act and its implementing regulations at 50 CFR part 424. The Act requires the development of recovery plans for listed species unless such a plan would not promote the conservation of a particular species. Recovery plans help guide the recovery effort by prescribing actions considered necessary for the conservation of the species, establishing criteria for downlisting or delisting listed species, and estimating time and cost for implementing the measures needed for recovery.

Section 4(f) of the Act requires public notice and an opportunity for public review and comment during recovery plan development. From September 22, 2006, through November 21, 2006, we provided the draft of this recovery plan to the public and solicited comments (71 FR 55508). We considered information we received during the public comment period and comments from peer reviewers in our preparation of the final recovery plan, and have summarized that information and our responses to comments in Appendix G of the approved recovery plan. We welcome continuing public comment on this recovery plan, and we will consider all substantive comments on an ongoing basis to inform the implementation of recovery activities and future updates to the recovery plan.

In this recovery plan, we describe our recovery strategies and objectives for two endangered plants: Lomatium cookii (Cook's desert-parsley) and Limnanthes floccosa ssp. grandiflora (equivalent to Limnanthes pumila ssp. grandiflora in current taxonomy) (large-flowered woolly meadowfoam). The plan also provides recommendations for recovery of the threatened vernal pool fairy shrimp (Branchinecta lynchi) within Oregon, supplementing the existing rangewide recovery plan for the species that was published on March 7, 2006 (71 FR 11441). In addition, site-specific information and recommendations for long-term conservation are provided for seven species of conservation concern.

The species addressed in this recovery plan occur in vernal pool, swale, or seasonal wet meadow habitats within southern Oregon and are largely confined to limited areas by topographic constraints, soil types, and climatic conditions. Surrounding (or associated) upland habitat is critical to the proper ecological function of these vernal pool habitats. Most of the vernal pool plants and animals addressed in the recovery plan have life histories adapted to the short period for growth and reproduction within inundated or drying pools and meadows interspersed with long dormant periods and extreme year-to-year variation in rainfall. All of the species addressed in this recovery plan are threatened by the continued degradation, loss, and fragmentation of their native vernal pool or wet meadow ecosystems.

The recovery actions described in this recovery plan include: (1) Protection, management, and restoration of vernal pool and wet meadow habitat; (2) population status surveys and monitoring; (3) research on biology and management of the species; and (4) enhancement of public awareness and participation in species recovery. The recovery strategy is oriented to adaptive management of vernal pool and wet meadow habitat, consistent with the Service's Strategic Habitat Conservation process, which calls for an iterative process of biological planning, conservation design, conservation delivery, and monitoring and research. The biological planning and conservation design set forth in this recovery plan lay out the criteria for recovery and identify localities for implementing actions, while the recovery actions describe a process for implementing conservation on the ground, outcome-based monitoring to assess success, and ongoing assumption-driven research to test biological hypotheses important to management. The objective of this recovery plan is to recover the two endangered plants and the threatened animal species sufficiently to warrant delisting, and to ensure the long-term conservation of the seven taxa of concern. An interim goal is to downlist Lomatium cookii and Limnanthes floccosa ssp. grandiflora from endangered to threatened status.

Authority

The authority for this action is section 4(f) of the Endangered Species Act, 16 U.S.C. 1533 (f).

Dated: November 6, 2012.
Richard R. Hannan,
Acting Regional Director, Pacific Region, U.S. Fish and Wildlife Service.

[FR Doc. 2013-06621 Filed 3-21-13; 8:45 am]

BILLING CODE 4310-55-P